DEPARTMENT OF COMMERCE

International Trade Administration

A-552-801

Certain Frozen Fish Fillets From the Socialist Republic of Vietnam: Initiation of New Shipper Review

AGENCY: Import Administration, International Trade Administration, Department of Commerce.

EFFECTIVE DATE: September 25, 2009.

SUMMARY: The Department of Commerce (“Department”) has determined that a request for a new shipper review of the antidumping duty order on certain frozen fish fillets from the Socialist Republic of Vietnam, received on July 31, 2009, meets the statutory and regulatory requirements for initiation. The period of review (“POR”) of this new shipper review is August 1, 2008, - July 31, 2009.

FOR FURTHER INFORMATION CONTACT: Javier Barrientos AD/CVD Operations, Office 9, Import Administration, International Trade Administration, U.S. Department of Commerce, 14th Street and Constitution Avenue, NW, Washington, DC 20230; telephone: (202) 482-2243.

SUPPLEMENTARY INFORMATION:

Background

The antidumping duty order on certain frozen fish fillets from the Socialist Republic of Vietnam was published in the Federal Register on August 12, 2003. See Notice of Antidumping Duty Order: Certain Frozen Fish Fillets from the Socialist Republic of Vietnam, 68 FR 47909 (August 12, 2003). On July 31, 2009, we received a timely request for a new shipper review from CUU Long Fish Joint Stock Company (“CL-Fish”) in accordance with 19 CFR 351.214(c) and 351.214(d)(2). CL-Fish has certified that it is both the producer and exporter of the subject merchandise upon which the request for the new shipper review is based.

Initiation of New Shipper Reviews

Pursuant to section 751(a)(2)(B)(i)(I) of the Tariff Act of 1930, as amended (“Act”), and 19 CFR 351.214(b)(2), CL-Fish certified that it did not export certain frozen fish fillets to the United States during the period of investigation (“POI”). Pursuant to section 751(a)(2)(B)(i)(II) of the Act and 19 CFR 351.214(b)(2)(iii)(A), CL-Fish certified that, since the initiation of the less-than-fair-value investigation, it has never been affiliated with any exporter or producer who exported certain frozen fish fillets to the United States during the POI, including those not individually examined during the less-than-fair-value investigation. As required by 19 CFR 351.214(b)(2)(iii)(B), CL-Fish has also certified that its export activities are not controlled by the central government of Vietnam.

In addition to the certifications described above, CL-Fish submitted documentation establishing the following: (1) the date on which it first shipped certain frozen fish fillets for export to the United States and the date on which the certain frozen fish fillets first entered, or withdrawn from warehouse, for consumption; (2) the volume of its first shipment; and (3) the date of its first sales to an unaffiliated customer in the United States.

Pursuant to section 751(a)(2)(B) of the Act and 19 CFR 351.214(d)(1), we are initiating this new shipper review for shipments of certain frozen fish fillets from Vietnam produced and exported by CL-Fish.

We intend to issue preliminary results of this review no later than 180 days from the date of initiation, and final results of these reviews no later than 270 days from the date of initiation. See section 751(a)(2)(B)(iv) of the Act.

We will instruct the United States Customs and Border Protection (“CBP”) to allow, at the option of the importer, the posting, until the completion of the review, of a bond or security in lieu of a cash deposit for each entry of the subject merchandise from CL-Fish in accordance with section 751(a)(2)(B)(iii) of the Act and 19 CFR 351.214(e). Because CL-Fish certified that it both produced and exported the subject merchandise, the sale of which is the basis for this new shipper review request, we will apply the bonding privilege to CL-Fish only for subject merchandise which the respondent both produced and exported.

Interested parties requiring access to proprietary information in this new shipper review should submit applications for disclosure under administrative protective order in accordance with 19 CFR 351.305 and 351.306. This initiation and notice are in accordance with section 751(a)(2)(B) of the Act and 19 CFR 351.214 and 351.221(c)(1)(i).

Dated: September 17, 2009.
John M. Andersen,
Acting Deputy Assistant Secretary for Import Administration.

[FR Doc. E9-23258 Filed 9-24-09; 8:45 am]

BILLING CODE 3510-DS-S